DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Dr. Nancy Foster Scholarship Program.

OMB Control Number: 0648-0432.

Form Number(s): None.

Type of Request: Regular submission (reinstatement with changes of a previously approved information collection).

Number of Respondents: 600.

Average Hours per Response: Applications, 8 hours; letters of recommendation, 45 minutes; biographies and photos, 1 hour; annual reports, 90 minutes; evaluations, 15 minutes.

Burden Hours: 1,920.

Needs and Uses: The proposed information collection is a reinstatement of a previous collection, with revisions in the requirements: a pre- and post-evaluation by participants, and a new application form.

The National Oceanic and Atmospheric Administration (NOAA) Office of Education (OEd) collects, evaluates and assesses student data and information for the purpose of selecting successful scholarship candidates, generating internal NOAA reports and articles to demonstrate the success of its program. The Dr. Nancy Foster Scholarship Program is available to graduate students pursuing masters and doctoral degrees in the areas of marine biology, oceanography and maritime archaeology. The OEd requires applicants to the Dr. Nancy Foster Scholarship Program to complete an application and to supply references (e.g., from academic professors and advisors) in support of the scholarship application. Scholarship recipients are required to conduct a pre- and post-evaluation of their studies through the scholarship program to gather information about the level of knowledge, skills and behavioral changes that take place with the students before and after their program participation. The evaluation results support NOAA Office of National Marine Sanctuaries program performance measures. Scholarship recipients are also required to submit an annual progress report, a biographical sketch, and a photograph.

Affected Public: Individuals or households.

Frequency: Annually or one time.

Respondent's Obligation: Required to obtain or retain benefits.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: June 17, 2011.
Gwellnar Banks,
Management Analyst, Office of the Chief Information Officer.

[FR Doc. 2011-15676 Filed 6-22-11; 8:45 am]

BILLING CODE 3510-12-P